DEPARTMENT OF AGRICULTURE

National Institute of Food and Agriculture

Notice of Intent To Request an Extension of a Currently Approved Information Collection

AGENCY: National Institute of Food and Agriculture, USDA.

ACTION: Notice and request for comments.

SUMMARY: In accordance with the Paperwork Reduction Act of 1995 and Office of Management and Budget (OMB) regulations (5 CFR part 1320), which implement the Paperwork Reduction Act of 1995 (44 U.S.C. Chapter 35), this notice announces the National Institute of Food and Agriculture's (NIFA) intention to request an extension for the currently approved information collection for the NIFA Current Research Information System (CRIS).

DATES: Written comments on this notice must be received by June 1, 2010, to be assured of consideration. Comments received after that date will be considered to the extent practicable.

ADDRESSES: Written comments concerning this notice and requests for copies of the information collection may be submitted by any of the following methods: jhitchcock@nifa.usda.gov; Fax: 202-720-0857; Mail: Information Systems and Technology Management, NIFA, USDA, STOP 2216, 1400 Independence Avenue, SW., Washington, DC 20250-2216; Hand Delivery/Courier: 800 9th Street, SW., Waterfront Centre, Room 4217, Washington, DC 20024.

FOR FURTHER INFORMATION CONTACT: Jason Hitchcock, Director of Information, Policy, Planning, and Training; Information Systems and Technology Management; NIFA/USDA; E-mail: jhitchcock@nifa.usda.gov.

SUPPLEMENTARY INFORMATION: Title: NIFA Current Research Information System.

OMB Number: 0524-0042.

Expiration Date of Current Approval: June 30, 2010.

Type of Request: Intent to extend currently approved information collection for three years.

Abstract: The United States Department of Agriculture (USDA), National Institute of Food and Agriculture (NIFA) administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities. NIFA also administers several formula funded research programs. The programs are authorized pursuant to the authorities contained in the McIntire-Stennis Cooperative Forestry Research Act of October 10, 1962 (16 U.S.C. 582a et seq.); the Hatch Act of 1887, as amended (7 U.S.C. 361a-i); Section 1445 of Public Law 95-113, the Food and Agriculture Act of 1977, as amended (7 U.S.C. 3222); and Section 1433 of Subtitle E (Sections 1429-1439), Title XIV of Public Law 95-113, as amended (7 U.S.C. 3191-3201). Each formula funded program is subject to a set of administrative requirements; “Administrative Manual for the McIntire-Stennis Cooperative Forestry Research Program,” the “Administrative Manual for the Hatch Research Program,” the “Administrative Manual for the Evans-Allen Cooperative Agricultural Research Program,” and the “Administrative Manual for the Continuing Animal Health and Disease Research Program.”

The Current Research Information System (CRIS) is the USDA's documentation and reporting system (CRIS forms AD-416, AD-417, AD-419, and AD-421) and constitute a necessary information collection for publicly-supported projects as set forth in requirements established in 7 CFR Parts 3400 through 3430 pertaining to the aforementioned authorities. This information collection is necessary in order to provide descriptive information regarding individual research activities, education activities, extension activities, and integrated activities to document expenditures and staff support for the activities, and to monitor the progress and impact of such activities.

The historical mission of CRIS, broadly stated, is to document the research activities of USDA and the State agricultural research system partners, to satisfy a variety of reporting requirements, and to provide access to research information. This mission supports one of NIFA's primary functions, as stated in the agency strategic plan, of providing program leadership to identify, develop, and manage programs to support university-based and other institutional research. The boundaries and scope of the CRIS mission have been expanded to a more comprehensive purpose of documenting all of the research, education, extension, and integrated activities funded or managed by NIFA. As such, the information collected for CRIS can be utilized in an essentially unlimited number of ways for a wide array of purposes. Generally, CRIS provides ready access to information through public web accessible data as well as individually requested, customized reports and services for agency officials, program leaders, administrators, and managers. The information provided helps users to keep abreast of the latest developments in agricultural, food science, human nutrition and forestry research and education; track resource utilization in specific target areas of work; plan for future activities; plan for resource allocation to research, education, and extension programs; avoid costly duplication of effort; aid in coordination of efforts addressing similar problems in different locations; and aid research, education, and extension workers in establishing valuable contacts within the agricultural community.

Descriptive information pertaining to documented projects is available to the general public as well as the research, education, and extension community contributing to CRIS. Limited financial information is available on individual grants and cooperative agreements as well as summary financial information through the CRIS Web site. A cooperating institution, including a state agricultural experiment station, state forestry school, 1862 land grant institution, or 1890 land grant institution has access to all of the data pertaining to that institution. Many institutions take advantage of this access, utilizing CRIS system facilities to manage the research programs at their institution. In addition, NIFA staff members can request specialized reports directly from the CRIS staff. These requests can include financial disclosure pertaining to a particular subject area or targeted program. The nature of this type of request characterizes one of the strengths of the CRIS information collection. The system collects obligations and expenditures on individual projects; however, information can be retrieved and aggregated based on subject areas or targeted programs, and corresponding financial information can be tabulated accordingly. The inclusion of subject-based classifications and subject specific descriptive fields supports a unique retrieval capability in this system. The information can be utilized nationally, regionally, or at more detailed levels, by program leaders, budget officials, and administrators to identify resource utilization, monitor research, education, and extension activity in specific target areas, and support decision making and resource allocation, not just on individual projects, but also for specific program areas. This combination of system capabilities facilitates program evaluation, accountability, and decision making processes.

Out of an initiative of the Research Business Models (RBM) Subcommittee of the Committee on Science (CoS), a committee of the National Science and Technology Council (NSTC), came the Research Performance Progress Report (RPPR). The RPPR is a new uniform format for reporting performance progress on Federally-funded research projects. Upon implementation, the RPPR will be used by agencies that support research and research-related activities for use in submission of interim progress reports. It is intended to replace other interim performance reporting formats currently in use by agencies. In anticipation of the RPPR's implementation, NIFA is working to align activities with that effort. Currently, NIFA plans to begin an incremental transition from CRIS to REEport, a new reporting system which format is based on the RPPR, beginning October 1, 2010. A separate information collection Federal Register notice will be prepared and published in the near future for REEport.

Estimate of Burden: NIFA is increasing the number of respondents for each component of the previous information collection to account for increased use of this system by new and existing programs. No changes have been made to the burden per response from the previous approval. NIFA estimates the number of respondents for the AD-416 form to be 4,096 with an estimated response time of 3.9 hours, representing a total annual burden of 15,974 hours. It is estimated the AD-417 will have 4,096 respondents with an estimated response time of .7 hours, representing a total annual burden of 2,867 hours. NIFA estimates that the number of respondents for the AD-419 will be 15,199 with an estimated response time of 1.4 hours, representing a total annual burden of 21,279 hours. The AD-421 is estimated to have 12,584 respondents and an estimated response time of 2.7 hours, representing a total annual burden of 33,977 hours. For this CRIS information collection NIFA estimates a total of 74,097 annual burden hours.

Comments: Comments are invited on: (a) Whether the proposed collection of information is necessary for the proper performance of the functions of the Agency, including whether the information will have practical utility; (b) the accuracy of the Agency's estimate of the burden of the proposed collection of information; (c) ways to enhance the quality, utility, and clarity of the information to be collected; (d) ways to minimize the burden of the collection of information on those who are to respond, including through the use of appropriate automated, electronic, mechanical, or other technological collection techniques or other forms of information technology; and (e) the expanded use of CRIS forms for education and extension programs, particularly programs that are competitive, project-based, and funded under section 3(d) of the Smith-Lever Act.

Done at Washington, DC, this March 23, 2010.
Molly Jahn,
Acting Under Secretary, Research, Education, and Economics.

[FR Doc. 2010-6978 Filed 3-29-10; 8:45 am]

BILLING CODE 3410-22-P